MERIT SYSTEMS PROTECTION BOARD

Information Quality Guidelines

AGENCY: Merit Systems Protection Board.

ACTION: Notice.

SUMMARY: The Merit Systems Protection Board (MSPB or the Board) announces that its final Information Quality Guidelines, which are effective October 1, 2002, have been posted on the MSPB website.

FOR FURTHER INFORMATION CONTACT: Bentley M. Roberts, Jr., Clerk of the Board, 1615 M Street, NW., Washington, DC 20419; telephone (202) 653-7200; facsimile (202) 653-7130; e-mail to mspb@mspb.gov.

SUPPLEMENTARY INFORMATION: Section 515 of the Treasury & General Government Appropriations Act of FY 2001 (Public Law 106-554) requires each Federal agency to publish guidelines for ensuring and maximizing the quality, objectivity, utility, and integrity of the information it disseminates to the public. Agency guidelines must be based on government-wide guidelines issued by the Office of Management and Budget (OMB). In compliance with this statutory requirement and OMB instructions, the MSPB has posted its final Information Quality Guidelines on the MSPB Web site (www.mspb.gov). The Guidelines describe the agency's procedures for ensuring the quality of information that it disseminates to the public and the procedures by which an affected person may obtain correction of information disseminated by the MSPB that does not comply with the agency's Guidelines or the government-wide guidelines issued by OMB. Persons who cannot access the Guidelines through the Internet may request a paper or electronic copy by contacting the Office of the Clerk of the Board.

Dated: September 23, 2002.
Bentley M. Roberts,
Clerk of the Board.

[FR Doc. 02-24613 Filed 9-26-02; 8:45 am]

BILLING CODE 7400-01-M